NUCLEAR REGULATORY COMMISSION

[Docket Nos. 52-027 and 52-028; NRC-2008-0441]

South Carolina Electric and Gas; Notice of Availability of the Final Environmental Impact Statement for Virgil C. Summer Nuclear Station, Units 2 and 3, Combined Licenses Application Review

Notice is hereby given that the U.S. Nuclear Regulatory Commission (NRC) and the U.S. Army Corps of Engineers as a cooperating agency have published a final environmental impact statement (EIS), NUREG-1939, Final Environmental Impact Statement for Combined Licenses for Virgil C. Summer Nuclear Station, Units 2 and 3: Final Report” for the Virgil C. Summer Nuclear Station, Units 2 and 3, Combined Licenses application.

The Draft EIS was published in April 2010; a notice of availability appeared in the Federal Register on April 23, 2010 (75 FR 21368). The purpose of this notice is to inform the public that the final EIS is available for public inspection. The final EIS may be viewed online at: http://www.nrc.gov/reading-rm/doc-collections/nuregs/staff/sr1939/. In addition, the final EIS is available for inspection in the NRC Public Document Room (PDR) located at One White Flint North, 11555 Rockville Pike, Rockville, Maryland 20852 or from NRC's Agencywide Documents Access and Management System (ADAMS). ADAMS is accessible from the NRC Web site at http://www.nrc.gov/reading-rm/adams.html. The ADAMS accession numbers for the final EIS are ML11098A044 and ML11098A057. Persons who do not have access to ADAMS or who encounter problems in accessing the documents located in ADAMS should contact the PDR reference staff by telephone at 1-800-397-4209 or 1-301-415-4737 or by e-mail at pdr.resource@nrc.gov. The Fairfield County Library, located at 300 Washington Street, Winnsboro, South Carolina has also agreed to make the final EIS available to the public.

FOR FURTHER INFORMATION CONTACT: Ms. Patricia Vokoun, Environmental Projects Branch 2, Office of New Reactors, U.S. Nuclear Regulatory Commission, Mail Stop T7-E30, Washington, DC 20555-0001. Ms. Vokoun may be contacted by telephone at 301-415-3470 or via e-mail to Patricia.Vokoun@nrc.gov.

Dated at Rockville, Maryland, this 15th day of April 2011.
For the Nuclear Regulatory Commission.
Gregory Hatchett,
Acting Deputy Director, Division of Site and Environmental Reviews, Office of New Reactors.

[FR Doc. 2011-9834 Filed 4-21-11; 8:45 am]

BILLING CODE 7590-01-P